DEPARTMENT OF COMMERCE

National Oceanic and Atmospheric Administration

50 CFR Part 622

[Docket No. 130919819-5999-01]

RIN 0648-BD68

Fisheries of the Caribbean, Gulf of Mexico, and South Atlantic; Reef Fish Fishery of the Gulf of Mexico; Red Snapper Management Measures; Amendment 28

AGENCY: National Marine Fisheries Service (NMFS), National Oceanic and Atmospheric Administration (NOAA), Commerce.

ACTION: Proposed rule; request for comments.

SUMMARY: NMFS proposes to implement management measures described in Amendment 28 to the Fishery Management Plan for the Reef Fish Resources of the Gulf of Mexico (FMP), as prepared by the Gulf of Mexico Fishery Management Council (Council) (Amendment 28). If approved and implemented by the Secretary of Commerce (Secretary), Amendment 28 would revise the Gulf of Mexico (Gulf) red snapper commercial and recreational sector allocations of the stock annual catch limits (ACLs). As a result of the revised sector allocations proposed in Amendment 28, this proposed rule would revise the red snapper commercial and recreational quotas (which are equivalent to the ACLs) and the recreational annual catch targets (ACTs). This proposed rule would also set the Federal charter vessel/headboat and private angling component quotas and ACTs based on the revised recreational sector's ACL and ACT. The purpose of this proposed rule and Amendment 28 is to reallocate the Gulf red snapper harvest consistent with the 2014 red snapper assessment update while ensuring the allowable catch and recovery benefits from the rebuilding red snapper stock are fairly and equitably allocated between the commercial and recreational sectors.

DATES: Written comments must be received on or before March 10, 2016.

ADDRESSES: You may submit comments on the amendment identified by “NOAA-NMFS-2013-0146” by either of the following methods:

• Electronic Submission: Submit all electronic public comments via the Federal e-Rulemaking Portal. Go to www.regulations.gov/#!docketDetail;D=NOAA-NMFS-2013-0146, click the “Comment Now!” icon, complete the required fields, and enter or attach your comments.

• Mail: Submit written comments to Peter Hood, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter“N/A” in the required fields if you wish to remain anonymous).

Electronic copies of Amendment 28, which includes an environmental impact statement, a fishery impact statement, a Regulatory Flexibility Act (RFA) analysis, and a regulatory impact review, may be obtained from the Southeast Regional Office Web site at http://sero.nmfs.noaa.gov/sustainable_fisheries/gulf_fisheries/reef_fish/2013/am28/index.html.

FOR FURTHER INFORMATION CONTACT: Peter Hood, Southeast Regional Office, NMFS, telephone: 727-824-5305; email: Peter.Hood@noaa.gov.

SUPPLEMENTARY INFORMATION: NMFS and the Council manage the Gulf reef fish fishery under the FMP. The Council prepared the FMP and NMFS implements the FMP through regulations at 50 CFR part 622 under the authority of the Magnuson-Stevens Act.

Background

The Magnuson-Stevens Act requires NMFS and regional fishery management councils to prevent overfishing and achieve, on a continuing basis, optimum yield from federally managed fish stocks. The Magnuson-Stevens Act requires that in allocating fishing privileges among fishermen, such allocation shall be fair and equitable to all such fishermen, reasonably calculated to promote conservation, and carried out in such a manner that no particular individual, corporation, or other entity acquires an excessive share of such privileges. For stocks like red snapper, which are subject to a rebuilding plan, the Magnuson-Stevens Act also requires that harvest restrictions and recovery benefits be allocated fairly and equitably among the fishing sectors. These mandates are intended to ensure fishery resources are managed for the greatest overall benefit to the nation, particularly with respect to providing food production and recreational opportunities, and protecting marine ecosystems. The purpose of Amendment 28 is to reallocate red snapper harvest from the commercial sector to the recreational sector, consistent with the 2014 red snapper update assessment, to ensure that the allowable catch and recovery benefits from a rebuilding stock are fairly and equitably allocated between the sectors. The current commercial allocation would be reduced from 51 percent to 48.5 percent of the stock ACL and the recreational allocation would be increased from 49 percent to 51.5 percent of the stock ACL. This shift in allocation is based on the increase in the total allowable harvest attributable to the calibration of Marine Recreational Information Program (MRIP) catch estimates that were used in a 2014 update assessment. This proposed rule would implement the shift in allocation by modifying the commercial and recreational quotas as well as recreational component quotas consistent with the revised red snapper allocation. This proposed rule would also revise the applicable ACTs. All weights described in this proposed rule are in round (whole) weight.

Red Snapper Management

The Gulf red snapper stock is currently overfished and is under a rebuilding plan projected to end in 2032. Consistent with the rebuilding plan, both the commercial and recreational quotas have been allowed to increase as the red snapper stock has recovered. The red snapper commercial and recreational ACLs are equal to the applicable quotas.

The recreational sector, which has experienced red snapper quota overages and more recently, shorter red snapper seasons, is managed through a variety of measures including separate Federal charter vessel/headboat and private angling component quotas and ACTs, recreational bag and size limits, and closed seasons. Since 2014, the recreational season length is projected each year based on the applicable ACTs, which are set 20 percent less than the applicable quotas. In addition, an overage adjustment is required if the total recreational quota is exceeded and red snapper are overfished. The red snapper commercial sector has been managed under an individual fishing quota (IFQ) program since 2007 (71 FR 67447, November 22, 2006). Although the commercial sector has also experienced quota overages in the past, since the beginning of the IFQ program, the commercial sector has not exceeded its quota.

In recent years, the Council has expressed its intent to evaluate and possibly adjust the allocation of reef fish resources between the commercial and recreational sectors. The Council has discussed NOAA's Catch Share Policy as well as its own allocation policy, and consistent with those policies, has considered changes to sector allocations for red snapper and several grouper species. Amendment 28 and this proposed rule specifically address red snapper allocation between the commercial and recreational sectors.

Red Snapper Assessments

In 2013, the Southeast Data, Assessment, and Review 31 Gulf red snapper benchmark assessment was conducted and was then reviewed by the Council's Scientific and Statistical Committee (SSC). Based on their review, the SSC made recommendations for a revised red snapper acceptable biological catch (ABC) and overfishing limit (OFL). In 2014, a red snapper update assessment (2014 update assessment) was conducted. This assessment included more recent data and incorporated two changes to the recreational landings information: (1) Calibrated historical landings; and (2) new age (size) selectivity information for fishing years 2011-2013 for all recreational fleets. The calibrated historical landings resulted from important changes that were made to the design of the Marine Recreational Information Program (MRIP) Access Point Angler Intercept Survey in 2013 to cover the fishing day more effectively than the original Marine Recreational Fisheries Statistics Survey (MRFSS). As a result, MRIP tended to produce higher estimates of red snapper landings and discards than MRFSS. Therefore, the original time series of MRFSS estimates were calibrated to the new time series of MRIP, which resulted in higher historical landings estimates for the recreational sector. Also, the update assessment included new age (size) selectivity information for fishing years 2011-2013 for all recreational fleets. This was done because recreational red snapper fishermen appeared to be selecting for larger and older fish in recent years.

The results of the update assessment were first presented to the SSC and Council at their respective January 2015 meetings via a PowerPoint presentation. The results of the update assessment were subsequently used by the SSC to make new ABC recommendations. Specifically, the SSC recommended revised red snapper ABCs of 14.30 million lb (6.49 million kg), 13.96 million lb (6.33 million kg), and 13.74 million lb (6.23 million kg), for the 2015, 2016, and 2017 fishing years, respectively. The Council held a webinar meeting and approved a framework action to set the 2015-2017 red snapper quotas consistent with the SSC's recommendations and a final rule implementing the framework action published in May 2015 (80 FR 24832, May 1, 2015).

Allocation

The initial allocation for the commercial and recreational sectors was set in Amendment 1 to the FMP and was based on the percentage of total landings during the base period of 1979-1987 (55 FR 2078, January 22, 1990). The Council evaluated several different alternatives that would increase the recreational sector's red snapper allocation during the development of Amendment 28. These alternatives included straightforward percentage changes, changes based on the red snapper stock ACL, and changes based on the new recreational catch information used in the 2014 update assessment. The Council initially considered alternatives that would increase the commercial sector's red snapper allocation. At that time, analyses from the NMFS Southeast Fisheries Science Center (SEFSC) suggested that shifting red snapper allocation from the commercial to the recreational sector would increase net economic benefits. Thus, the Council determined that reallocating red snapper to the commercial sector would not achieve the purpose of the amendment at that time, which was to increase the net benefits from red snapper fishing and increase the stability of the red snapper component of the reef fish fishery, particularly for the recreational sector. Therefore, the Council removed those alternatives from the amendment. After the 2014 update assessment, the purpose and need statement of the amendment was revised to reallocating the red snapper harvest consistent with the assessment update to ensure the allowable catch and recovery benefits are fairly and equitably allocated between the commercial and recreational sectors. When the draft environmental impact statement (EIS) was published for comment, it included this revised purpose and need statement and two new alternatives added by the Council to address the new information and the revised purpose and need. The draft EIS did not include alternatives that would increase the commercial sector's allocation because the new scientific information did not change any previous understanding of commercial landings. More information about the Council's decision not to include these alternatives and an analysis of the environmental consequences of increasing the commercial allocation are provided in the response to comments section (Appendix D) of Amendment 28 and integrated final EIS. Accordingly, NMFS has made a preliminary determination that Amendment 28 includes a reasonable range of alternatives consistent with the requirements of the National Environmental Policy Act.

NMFS has also made a preliminary determination that Amendment 28 is consistent with section 302(i)(6) of the Magnuson-Stevens Act, which requires that interested parties “have a reasonable opportunity to respond to new data or information before the Council takes final action on conservation and management measures.” The preferred allocation alternative selected by the Council is based on the increase in the total allowable harvest that was attributable to the calibration of MRFSS catch estimates to the new MRIP time series used in the 2014 update assessment. The written report of the update assessment was not available until September 2015, which is after the Council took final action on Amendment 28. However, that report merely memorializes the information that was previously presented to the Council and the public, and was used by the Council to increase the quotas in the spring of 2015. The public had an opportunity to comment on the assessment results both during the Council webinar and during the comment period on the proposed rule to implement the quota increase that was published in April 2015. The amount of increase in the total allowable harvest attributable to the MRIP recalibration was derived from projections provided by the SEFSC in March 2015 and that analysis is included in Appendix H to Amendment 28.

The preferred allocation alternative was determined by first allocating the red snapper quota that would result if MRIP catch estimates were not calibrated according to the status quo allocation percentages (51 percent commercial and 49 percent recreational) and then adding the amount of red snapper quota estimated to result from the recalibration to the recreational sector derived from the SEFSC projections. Percentages of the 2015-2017 red snapper annual quotas allocated to each sector fluctuated based on the quota and on the amounts attributed to the recalibration. Thus, the Council decided to base the proposed commercial and recreational allocation on the average red snapper allocations for the projected years. Consequently, Amendment 28 would revise the Gulf red snapper allocation to 48.5 percent of the stock ACL to the commercial sector and 51.5 percent of the stock ACL to the recreational sector.

NMFS has made a preliminary determination that this allocation is consistent with National Standard 4 and the requirements of section 303(a)(14) of the Magnuson-Stevens Act. National Standard 4 requires, in relevant part, that any allocation be fair and equitable, and reasonably calculated to promote conservation. Section 303(a)(14) requires that any rebuilding plan that reduces harvest in a fishery allocate harvest restrictions and recovery benefits fairly and equitably among the commercial, recreational, and charter fishing sectors. The allocation is fair and equitable because it addresses changes in the methodology in collecting recreational landings information that indicate that recreational harvests have been underestimated and that the stock is more productive than previously thought. Allocating the quantifiable increase in the total allowable harvest attributable to the calibration to the recreational sector is a straightforward way to help address the impacts of the changes to the survey methodology on recreational catch estimates. This shift in allocation is intended to help maintain a fair and equitable distribution of recovery benefits by recognizing that future recreational harvest will be monitored based on an improved methodology that results in higher landings estimates. This allocation is also reasonably calculated to promote conservation because the resulting commercial and recreational quotas keep the harvest under the overfishing limit, new accountability measures that have been implemented for the recreational sector are constraining harvest to the recreational quota, and analyses indicate that the shift in allocation is not expected to affect the speed of recovery to the Gulf-wide management rebuilding target.

Quotas

Given the red snapper stock ACLs of 13.96 million lb (6.33 million kg) for the 2016 fishing year and 13.74 million lb (6.23 million kg) for the 2017 fishing year, under the proposed allocation the commercial quota would be 6.768 million lb (3.070 million kg) and 6.664 million lb (3.023 million kg) for the 2016 and 2017 fishing years and the recreational quota would be 7.192 million lb (3.262 million kg) and 7.076 million lb (3.210 million kg) for the 2016 and 2017 fishing years. For the recreational sector, the ACT would be set 20 percent less than the recreational quota and result in ACTs of 5.754 million lb (2.610 million kg) for 2016 and 5.661 million lb (2.568 million kg) for 2017. As described in Amendment 40 to the FMP, the recreational quota and ACT would be further divided into Federal charter vessel/headboat and private angling component quotas and ACTs based on an allocation of 42.3 percent to the Federal charter vessel/headboat component and 57.7 percent to the private angling component (80 FR 22422, April 22, 2015). As a result, this proposed rule would set the 2016 and 2017 Federal charter vessel/headboat component quotas at 3.042 million lb (1.380 million kg) and 2.993 million lb (1.358 million kg), and the component ACTs at 2.434 million lb (1.104 million kg) and 2.395 million lb (1.086 million kg), respectively. The rule would also set the 2016 and 2017 private angling component quotas at 4.150 million lb (1.882 million kg) and 4.083 million lb (1.852 million kg), and the component ACTs at 3.320 million lb (1.506 million kg) and 3.266 million lb (1.481 million kg), respectively. If Amendment 28 is approved by the Secretary and implemented, the commercial sector's amount of red snapper available in the IFQ program would be revised for the 2016 and 2017 fishing years and the season lengths for the recreational sector, and associated components, would be determined using the revised component ACTs.

NMFS has made a preliminary determination the proposed commercial and recreational quotas are consistent with the requirements of section 407(d)(2). Section 407(d)(2) must be read in context with the rest of section 407(d) as well as the Magnuson-Stevens Act as a whole. Section 407(d) was enacted in 1996 as part of the Sustainable Fisheries Act and provides that any fishery plan amendment submitted by the Council for the red snapper fishery after the date of enactment of the Sustainable Fisheries Act must contain conservation and management measures that (1) establish separate quotas for recreational fishing and commercial fishing, and (2) “ensure that such quotas reflect allocations among such sectors and do not reflect any harvests in excess of such allocations.” The Council complied with the mandate of section 407(d) in early 1997 by submitting a framework action to establish a recreational quota with a closure provision that reflected the allocation established in Amendment 1 to the FMP. A final rule implementing the recreational quota was published in September 1997 (62 Federal Register 46677, September 4, 1997).

There are three general provisions of the Magnuson-Stevens Act that are particularly relevant to the allocation decision addressed by Amendment 28. These are National Standard 4 and section 303(a)(14), which address, in relevant part, the fairness and equity of allocations, and National Standard 2, which requires that conversation and management measures shall be based on best scientific information available. The adjustment to the allocation chosen by the Council is based on new scientific information which indicates that historical recreational landings were greater than previously estimated. Revised historical recreational landings were then used in the update assessment and had a quantifiable impact on the results of that assessment. As explained above, allocating this quantifiable increase in the total allowable harvest to the recreational sector is a straightforward way to help address the impacts of the changes to the data collection methodology on recreational catch estimates. To give effect to all of the provisions of the statute, NMFS has made a preliminary determination that: (1) The Council complied with the mandates of section 407(d)(2) by establishing a recreational quota in 1997 that reflected the previously established allocation; and (2) that this provision does not prohibit future action to adjust the allocations as necessary to ensure consistency with the other general requirements of the Magnuson-Stevens Act, such as National Standard 2, National Standard 4, and section 303(a)(14). Furthermore, there is nothing that indicates any intent to exclude the allocations in the red snapper component of the reef fish fishery from these general requirements.

Because the Amendment 28 rulemaking to reallocate the red snapper stock ACL will be implemented after January 1, 2016, a framework action has been developed by the Council and submitted to NMFS that would hold back 4.9 percent of the 2016 commercial quota. The final rule for that framework action published on November 27, 2015 (80 FR 73999). The purpose of the framework action is to allow IFQ allocation to be distributed to IFQ shareholders based on the 2016 commercial quota proposed in Amendment 28. If Amendment 28 is not implemented, the held back portion of the red snapper commercial quota would be distributed back to the commercial sector.

Classification

Pursuant to section 304(b)(1)(A) of the Magnuson-Stevens Act, the NMFS Assistant Administrator has determined that this proposed rule is consistent with Amendment 28, the FMP, other provisions of the Magnuson-Stevens Act, and other applicable laws, subject to further consideration after public comment.

This proposed rule has been determined to be not significant for purposes of Executive Order 12866.

NMFS prepared an Initial Regulatory Flexibility Analysis (IRFA), as required by section 603 of the RFA, for this proposed rule. The IRFA describes the economic impact this proposed rule, if adopted, would have on small entities. A description of the action, why it is being considered, the objectives of, and legal basis for this action are contained at the beginning of this section in the preamble and in the SUMMARY section of the preamble. A copy of the full analysis is available from NMFS (see ADDRESSES). A summary of the IRFA follows.

The Magnuson-Stevens Act provides the statutory basis for this proposed rule. No duplicative, overlapping, or conflicting Federal rules have been identified. Moreover, the proposed rule is not expected to change current reporting, record-keeping, and other compliance requirements on directly affected small entities.

This proposed rule is expected to directly affect federally permitted commercial fishermen that harvest red snapper in the Gulf. Commercial harvest of red snapper in the Gulf is currently managed under an IFQ program. From 2010 through 2014, an annual average of 375 vessels landed at least 1 lb (0.45 kg) of red snapper. Each vessel generated annual average dockside revenues of approximately $102,000 (2014 dollars), of which $36,000 were from red snapper, $38,000 from other species jointly landed with red snapper, and $28,000 from other species on trips without red snapper. Vessels that caught and landed red snapper may also operate in other fisheries, the revenues of which are not known and are not reflected in these totals. It is noted that the 2014 commercial red snapper landings data are preliminary.

With respect to the proposed changes in the red snapper recreational allocation, only recreational anglers are allowed to keep red snapper harvested under the recreational quota and would be directly affected by changes in the allowable harvest. However, recreational anglers are not small entities under the RFA. Although for-hire businesses (charter vessels and headboats) operate in the recreational sector, these businesses only sell fishing services to recreational anglers and do not have harvest privileges to the red snapper recreational quota/ACT. For-hire vessels provide a platform for the opportunity to fish and not a guarantee to catch or harvest any species, though expectations of successful fishing, however defined, likely factor into the decision by anglers to purchase these services. Changing the red snapper recreational quota only defines how much red snapper can be harvested and the quota is a factor in the determination of the length of the red snapper season. Changing the quota does not explicitly prevent the continued offer or sale of for-hire fishing services. In the event of a shortened recreational season precipitated by a recreational quota reduction, fishing for other species can continue when the season is closed. In the event of a recreational quota increase and associated lengthening in the recreational open season, the basic service offered remains the same, though the list of species that may be retained is expanded. Because the proposed change in the red snapper recreational quota would not directly alter the basic service sold by for-hire vessels, in general, this proposed action would not directly apply to or regulate their operations. Any change in vessel business would be a result of changes in angler demand for these fishing services that occurs as a result of the behavioral decision by anglers, i.e., to fish or not. This behavioral decision would be a consequence of how anglers determine the change in allowable harvest will affect them. Therefore, any effects on the associated for-hire vessels would be one step removed from the anglers' decision and an indirect effect of the proposed action. Because the effects on for-hire vessels would be indirect, they fall outside the scope of the RFA.

NMFS has not identified any other small entities that would be expected to be directly affected by this proposed action.

The Small Business Administration has established size criteria for all major industry sectors in the U.S., including fish harvesters. A business involved in fish harvesting is classified as a small business if it is independently owned and operated, is not dominant in its field of operation (including its affiliates), and has combined annual receipts not in excess of $20.5 million (North American Industry Classification System, NAICS code 114111, finfish fishing) for all its affiliated operations worldwide.

Based on revenue information, all 375 commercial vessels directly affected by the rule can be considered small entities. Thus, the proposed rule would affect a substantial number of small entities. Because all entities expected to be directly affected by the proposed rule are determined for the purpose of this analysis to be small business entities, the issue of disproportional effects on large and small entities does not arise in the present case.

The proposed action would change the commercial and recreational sector allocation of the red snapper quota from 51 percent for the commercial sector and 49 percent for the recreational sector to 48.5 percent and 51.5 percent for the commercial and recreational sectors, respectively. Relative to the current red snapper ACLs for the 2016 and 2017 fishing years, the proposed reallocation would reduce the commercial sector allocation by 0.352 million lb (0.160 million kg) in 2016 and 0.343 million lb (0.156 million kg) in 2017, or a total of 0.695 million lb (0.315 million kg) over 2 years. Based on 2013 median ex-vessel price per pound for red snapper of $4.83 when adjusted to 2014 prices ($4.75 at 2013 dollars), these commercial quota reductions would be expected to reduce total gross revenue (ex-vessel revenue, minus the IFQ program's 3 percent cost recovery fee) of vessels that commercially harvest red snapper by approximately $1.48 million (2014 dollars) in 2016 and $1.45 million in 2017 for all vessels. Over 2 years, total revenue reductions would be $2.93 million, or an average of $1.46 million per year for all vessels. This average revenue reduction may be considered to approximate the annual revenue reduction of affected commercial vessels over a number of years for which the commercial quota is held at about the same levels as in 2016 and 2017. Based on the 2010-2014 average of 375 vessels that commercially harvested red snapper, the revenue reduction per vessel would be approximately $3,893 annually. This amount is approximately 4 percent of total per vessel revenues from all species.

The following discussion describes the eight alternatives that were not selected as preferred in Amendment 28 by the Council.

The first alternative, the no action alternative, would maintain the current commercial and recreational allocation of the red snapper ACL. This alternative would maintain relatively the same economic benefits to commercial vessels but at levels higher than those afforded by the preferred alternative. The second alternative would increase the recreational sector's allocation by 3 percent, resulting in a 48 percent commercial and 52 percent recreational sector allocation. The third alternative would increase the recreational sector's allocation by 5 percent, resulting in a 46 percent commercial and 54 percent recreational sector allocation. The fourth alternative would increase the recreational sector's allocation by 10 percent, resulting in a 41 percent commercial and 59 percent recreational sector allocation. The fifth alternative would allocate to the recreational sector 75 percent of the red snapper ACL increases beyond 9.12 million lb (4.14 million kg), resulting in a 42 percent commercial and 58 percent recreational sector allocation in 2016 and 42.3 percent commercial and 57.7 percent recreational sector allocation in 2017. The sixth alternative would allocate to the recreational sector all red snapper ACL increases beyond a stock ACL of 9.12 million lb (4.14 million kg), resulting in a 33.3 percent commercial and 66.7 percent recreational sector allocation in 2016 and 33.9 percent commercial and 66.1 percent recreational sector allocation in 2017. The seventh alternative would allocate to the recreational sector 75 percent of any red snapper ACL increases beyond a stock ACL 10.0 million lb (4.54 million kg), resulting in a 43.6 percent commercial and 56.4 percent recreational sector allocation in 2016 and 43.9 percent commercial and 56.1 percent recreational sector allocation in 2017. The eighth alternative (Alternative 9 in Action 1) would allocate increases in the red snapper ACL due to the recalibration of MRIP catch estimates and to the change in size selectivity to the recreational sector, resulting in a 42.5 percent commercial and 57.5 percent recreational sector allocation in 2016 and 2017. All these other alternatives, except the no action alternative, would result in larger quota and revenue reductions for the commercial vessels that harvest red snapper. Therefore, the Council determined that the preferred alternative in Amendment 28 best meets the goal of ensuring the allowable catch and recovery benefits from the rebuilding red snapper stock are fairly and equitably allocated between the commercial and recreational sectors.

List of Subjects in 50 CFR Part 622

Allocation, Commercial, Fisheries, Fishing, Gulf, Recreational, Red snapper.

Dated: January 14, 2016.
Eileen Sobeck,
Assistant Administrator for Fisheries, National Marine Fisheries Service.

For the reasons set out in the preamble, 50 CFR part 622 is proposed to be amended as follows:

PART 622—FISHERIES OF THE CARIBBEAN, GULF OF MEXICO, AND SOUTH ATLANTIC

1. The authority citation for part 622 continues to read as follows:

Authority: 16 U.S.C. 1801 et seq.

2. In § 622.39, revise paragraphs (a)(1)(i) and (a)(2)(i) to read as follows:

§ 622.39 Quotas.

* * * * *

(a) * * *

(1) * * *

(i) Commercial quota for red snapper. (A) For fishing year 2015—7.293 million lb (3.308 million kg), round weight.

(B) For fishing year 2016—6.768 million lb (3.070 million kg), round weight.

(C) For fishing year 2017 and subsequent fishing years—6.664 million lb (3.023 million kg), round weight.

* * * * *

(2) * * *

(i) Recreational quota for red snapper. (A) Total recreational quota (Federal charter vessel/headboat and private angling component quotas combined).

(1) For fishing year 2015—7.007 million lb (3.178 million kg), round weight.

(2) For fishing year 2016—7.192 million lb (3.262 million kg), round weight.

(3) For fishing year 2017 and subsequent fishing years—7.076 million lb (3.210 million kg), round weight.

(B) Federal charter vessel/headboat component quota. The Federal charter vessel/headboat component quota applies to vessels that have been issued a valid Federal charter vessel/headboat permit for Gulf reef fish any time during the fishing year. This component quota is effective for only the 2015, 2016, and 2017 fishing years. For the 2018 and subsequent fishing years, the applicable total recreational quota specified in § 622.39(a)(2)(i)(A) will apply to the recreational sector.

(1) For fishing year 2015—2.964 million lb (1.344 million kg), round weight.

(2) For fishing year 2016—3.042 million lb (1.380 million kg), round weight.

(3) For fishing year 2017—2.993 million lb (1.358 million kg), round weight.

(C) Private angling component quota. The private angling component quota applies to vessels that fish under the bag limit and have not been issued a Federal charter vessel/headboat permit for Gulf reef fish any time during the fishing year. This component quota is effective for only the 2015, 2016, and 2017 fishing years. For the 2018 and subsequent fishing years, the applicable total recreational quota specified in § 622.39(a)(2)(i)(A) will apply to the recreational sector.

(1) For fishing year 2015—4.043 million lb (1.834 million kg), round weight.

(2) For fishing year 2016—4.150 million lb (1.882 million kg), round weight.

(3) For fishing year 2017—4.083 million lb (1.852 million kg), round weight.

* * * * *

3. In § 622.41, revise (q)(2)(iii) to read as follows:

§ 622.41 Annual catch limits (ACLs), annual catch targets (ACTs), and accountability measures (AMs).

* * * * *

(q) * * *

(2) * * *

(iii) Recreational ACT for red snapper. (A) Total recreational ACT (Federal charter vessel/headboat and private angling component ACTs combined).

(1) For fishing year 2015—5.606 million lb (2.543 million kg), round weight.

(2) For fishing year 2016—5.754 million lb (2.610 million kg), round weight.

(3) For fishing year 2017 and subsequent fishing years—5.661 million lb (2.568 million kg), round weight.

(B) Federal charter vessel/headboat component ACT. The Federal charter vessel/headboat component ACT applies to vessels that have been issued a valid Federal charter vessel/headboat permit for Gulf reef fish any time during the fishing year. This component ACT is effective for only the 2015, 2016, and 2017 fishing years. For the 2018 and subsequent fishing years, the applicable total recreational quota specified in § 622.39(a)(2)(i)(A) will apply to the recreational sector.

(1) For fishing year 2015—2.371 million lb (1.075 million kg), round weight.

(2) For fishing year 2016—2.434 million lb (1.104 million kg), round weight.

(3) For fishing year 2017—2.395 million lb (1.086 million kg), round weight.

(C) Private angling component ACT. The private angling component ACT applies to vessels that fish under the bag limit and have not been issued a Federal charter vessel/headboat permit for Gulf reef fish any time during the fishing year. This component ACT is effective for only the 2015, 2016, and 2017 fishing years. For the 2018 and subsequent fishing years, the applicable total recreational quota specified in § 622.39(a)(2)(i)(A) will apply to the recreational sector.

(1) For fishing year 2015—3.234 million lb (1.467 million kg), round weight.

(2) For fishing year 2016—3.320 million lb (1.506 million kg), round weight.

(3) For fishing year 2017—3.266 million lb (1.481 million kg), round weight.

[FR Doc. 2016-01279 Filed 1-22-16; 8:45 am]

BILLING CODE 3510-22-P